COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products to the Procurement List that will be furnished by nonprofit agencies employing persons who are blind or have other severe disabilities and to delete products previously furnished by such agencies.

Comments Must be Received on or Before: 4/23/2012.

ADDRESSES: Committee for Purchase From People Who Are Blind or Severely Disabled, Jefferson Plaza 2, Suite 10800, 1421 Jefferson Davis Highway, Arlington, Virginia, 22202-3259.

For Further Information or to Submit Comments Contact: Barry S. Lineback, Telephone: (703) 603-7740, Fax: (703) 603-0655, or email CMTEFedReg@AbilityOne.gov.

SUPPLEMENTARY INFORMATION:

This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 8501-8506) in connection with the products proposed for addition to the Procurement List.

Comments on this certification are invited. Commenters should identify the statement(s) underlying the certification on which they are providing additional information.

End of Certification

The following products are proposed for addition to the Procurement List for production by the nonprofit agencies listed:

Products

Parts Kit, Soft Top Troop Area Enclosure, Humvee, Tan

NSN: 2540-01-329-8073.

NPA: Montgomery County Chapter, NYSARC, Inc., Amsterdam, NY.

Contracting Activity: Defense Logistics Agency Land and Maritime, Columbus, OH.

Coverage: C-List for 100% of the requirement of the Department of Defense, as aggregated by the Defense Logistics Agency Land and Maritime, Columbus, OH.

Ice Melt/De-Icer

NSN: 6850-01-598-1946—10 lbs.

NSN: 6850-01-598-1926—20 lbs.

NSN: 6850-01-598-1933—40 lbs.

NPA: Bosma Industries for the Blind, Inc., Indianapolis, IN.

Contracting Activity: Defense Logistics Agency Aviation, Richmond, VA.

Coverage: C-List for 100% of the requirement of the Department of Defense, as aggregated by the Defense Logistics Agency Aviation, Richmond, VA.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 8501-8506) in connection with the products proposed for deletion from the Procurement List.

End of Certification

The following products are proposed for deletion from the Procurement List:

Products

Paper, Mimeograph and Duplicating

NSN: 7530-00-234-7169.

NSN: 7530-00-240-4768.

NSN: 7530-00-253-0986.

NSN: 7530-00-285-3070.

NSN: 7530-00-286-6178.

NSN: 7530-01-037-5555.

NSN: 7530-01-037-5556.

NSN: 7530-01-072-2534.

NPA: Louisiana Association for the Blind, Shreveport, LA.

Contracting Activity: General Services Administration, New York, NY.

Barry S. Lineback,
Director, Business Operations

[FR Doc. 2012-7001 Filed 3-22-12; 8:45 am]

BILLING CODE 6353-01-P